FEDERAL MARITIME COMMISSION

[DOCKET NO. 24-11]

Notice of Filing of Complaint and Assignment; OL USA LLC, Complainant, v. Maersk A/S, Respondent

Served: February 14, 2024.

Notice is given that a complaint has been filed with the Federal Maritime Commission (the “Commission”) by OL USA LLC (the “Complainant”) against Maersk A/S (the “Respondent”). Complainant states that the Commission has subject matter jurisdiction over the complaint pursuant to the Shipping Act of 1984, 46 U.S.C. 40101 et seq. and personal jurisdiction over the Respondent as an ocean common carrier as defined in 46 U.S.C. 40102.

Complainant is a limited liability company formed and existing under the laws of the state of Delaware with a principal place of business in Westbury, New York, and a shipper, as defined in 46 U.S.C. 40102(17), in the business of providing non-vessel-operating common carrier services.

Complainant identifies Respondent as a foreign corporation organized and existing under the laws of Denmark with a principal place of business in Copenhagen, Denmark, and an ocean common carrier as defined in 46 U.S.C. 40102(18).

Complainant alleges that Respondent engaged in unreasonable and deceptive acts that violated 46 U.S.C. 40501 and 46 CFR part 520. Complainant alleges these violations arose from a dysfunctional online tariff platform maintained by the Respondent, and the platform prevented access to and review of Respondent's tariffs.

An answer to the complaint must be filed with the Commission within 25 days after the date of service.

The full text of the complaint can be found in the Commission's electronic Reading Room at https://www2.fmc.gov/readingroom/proceeding/24-11/. This proceeding has been assigned to the Office of Administrative Law Judges. The initial decision of the presiding judge shall be issued by February 14, 2025, and the final decision of the Commission shall be issued by August 29, 2025.

David Eng,
Secretary.

[FR Doc. 2024-03517 Filed 2-20-24; 8:45 am]

BILLING CODE 6730-02-P